ENVIRONMENTAL PROTECTION AGENCY

[FRL-8329-2]

Workshop To Discuss Policy-Relevant Science To Inform EPA's Integrated Plan for the Review of the Secondary Particulate Matter (PM) National Ambient Air Quality Standards (NAAQS)

AGENCY: Environmental Protection Agency (EPA).

ACTION: Notice of workshop.

SUMMARY: The EPA is announcing that a workshop entitled “Workshop to Discuss Policy-Relevant Science to Inform EPA's Integrated Plan for the Review of the Secondary Particulate Matter (PM) National Ambient Air Quality Standards (NAAQS)” is being organized by EPA's National Center for Environmental Assessment (NCEA), Office of Research and Development and EPA's Office of Air Quality Planning and Standards (OAQPS), Office of Air and Radiation. The workshop will be held on July 16, 2007 in Chapel Hill, North Carolina and will be open to attendance by interested public observers on a first-come, first-served basis up to the limits of available space.

DATES: The workshop entitled “Workshop to Discuss Policy-Relevant Science to Inform EPA's Integrated Plan for the Review of the Secondary Particulate Matter (PM) National Ambient Air Quality Standards (NAAQS)” will be held on July 16, 2007.

ADDRESSES: The workshop will be held at the Carolina Inn in Chapel Hill, North Carolina. An EPA contractor, SAIC, is providing logistical support for the workshop. For further information on the workshop, contact Ms. Kristen Wheeler, SAIC Conference Coordinator, 11251 Roger Bacon Drive, Reston, VA 20190, telephone: 703-318-4535; facsimile: 703-318-4755; e-mail: wheelerkr@saic.com.

FOR FURTHER INFORMATION CONTACT: Questions regarding information, registration, and logistics for the workshops should be directed to the SAIC Conference Coordinator listed in ADDRESSES above.

Additional questions regarding the secondary PM NAAQS workshop should be directed to Dr. Paul Wagner, U.S. EPA, NCEA, telephone: 919-541-2255; facsimile: 919-541-0237; e-mail: wagner.paulf@epa.gov.

SUPPLEMENTARY INFORMATION:

I. Summary of Information About the Workshops

The U.S. Clean Air Act requires that EPA carry out periodic reviews of the national ambient air quality standards (NAAQS) for major “criteria” air pollutants and to revise the NAAAQS for a given pollutant, as appropriate. The Agency's last review of the PM NAAQS was completed in September 2006 with the promulgation of revisions to some aspects of the PM standards to provide requisite protection of public health and welfare (71 FR 61144, October 17, 2006). Initiating the next review of these standards at this time is consistent with the Clean Air Act's requirement that the Agency periodically review the latest scientific information and the standards. It is also consistent with the Agency's new NAAQS review process. For more information on the NAAQS review process, please see http://www.epa.gov/ttn/naaqs/.

The workshop will provide an opportunity for external experts as well as EPA staff to highlight significant new and emerging research, and to make individual recommendations to the Agency regarding the design and scope of the review for the secondary (welfare-based) PM standards to ensure it addresses key policy-relevant issues and considers the new science relevant to informing our understanding of these issues. A similar workshop to discuss planning for the review of the primary (health-based) PM NAAQS will be held on July 11, 12, and 13, 2007 in Research Triangle Park, North Carolina. Please see the announcement elsewhere in today's Federal Register.

Based in large part on the input received during the primary and secondary PM workshops, EPA intends to develop a draft integrated PM NAAQS review plan that will outline the schedule, process, and approaches for evaluating the relevant scientific information and addressing the key policy-relevant issues to be considered in this review. The Clean Air Scientific Advisory Committee (CASAC) will be asked to conduct a consultation with the Agency on the draft integrated plan later this year, and the public will have the opportunity to comment on the draft integrated plan as well. The final integrated plan will be used to frame each of the major elements of the PM review under the new NAAQS process: An integrated science assessment document, a risk/exposure assessment report, and a policy assessment to be published as an advance notice of proposed rulemaking (ANPR).

Immediately following this workshop, EPA is sponsoring a workshop entitled “Oxides of Nitrogen and Sulfur (NOX/SOX) Secondary National Ambient Air Quality Standards (NAAQS) Workshop.” These workshops are being held in close coordination because EPA has recognized that some overlap is likely in the issues discussed and areas of expertise involved in the review of secondary standards for PM, Oxides of Nitrogen (NOX), and Sulfur Oxides (SOX).

Dated: June 14, 2007.
P.W. Preuss,
Director, National Center for Environmental Assessment.

[FR Doc. E7-11959 Filed 6-19-07; 8:45 am]

BILLING CODE 6560-50-P